DEPARTMENT OF HEALTH AND HUMAN SERVICES

Centers for Disease Control and Prevention

[60Day-24-1365; Docket No. CDC-2024-0069]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Program Evaluation of CDC's Core State Injury Prevention Program. This project allows CDC to collect information from awardees funded under the Core State Injury Prevention Program.

DATES: CDC must receive written comments on or before November 19, 2024.

ADDRESSES: You may submit comments, identified by Docket No. CDC-2024-0069 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Program Evaluation of CDC's Core State Injury Prevention Program (OMB Control No. 0920-1365, Exp. 7/31/2025)—Revision—National Center for Injury Prevention and Control (NCIPC), Centers for Disease Control and Prevention (CDC).

Background and Brief Description

CDC is submitting a Revision request for the currently approved Program Evaluation of CDC's Core State Injury Prevention Program (OMB Control No. 0920-1365, Expiration Date 7/31/2025). Approval is requested for an additional three years to continue collecting information from awardees funded under the Core State Injury Prevention Program cooperative agreement (CE21-2101), hereafter known as Core SIPP.

CDC requests to continue collecting several types of information from recipients over the course of the funding cycle. The Core SIPP Program added three new recipients to the program and is requesting a revision to allow for data collection of these three new recipients. This Revision is requested to incorporate data collection and analysis of three new funded recipients who were added. Data collected up until this point has been used to inform technical assistance (TA) to recipients and programmatic decision-making. CDC has used this data to develop reports to show program impact on recipient capacity, public health actions, and continuous quality improvement. This information will continue to be used to:

(1) Evaluate and track outcomes at the recipient- and program-levels as they relate to injury prevention-focused infrastructure development, surveillance system development and use, and partnerships to prevent Adverse Childhood Experiences (ACEs), Traumatic Brain Injury (TBI), and transportation-related injuries. Recipient-and program-level identification of disproportionately affected populations and subsequent public health actions taken to address injury-related health disparities will also be assessed.

(2) Identify TA needs of individual recipients and the recipient cohort, so that the CDC team can appropriately deploy resources to support recipients.

(3) Identify practice-based evidence for injury prevention public health actions to advance the field through future partnerships, program design, and publications.

(4) Inform continuous quality improvement activities over the course of the funding period, to include quarterly and annual strategic planning for current and later iterations of this program under future funding.

Information is collected by CDC through the following modes to address the purposes identified above:

(1) The Core SIPP Implementation Capacity Development Rubric was implemented once at the start of program funding (baseline collection), and subsequently during the middle of each reporting year. Recipients self-administer the rubric via CDC's Partner Portal, where they self-score their state injury prevention programs according to their current level of capacity for components of interest. These scores are used to identify recipient strengths, areas for improvement, and additional needs for CDC TA support. Measuring recipient improvements in implementing public health actions in this standard way greatly increases the ability for CDC to measure the impact of the program investment. CDC aggregates these scores across recipients to identify larger program needs and to inform internal Continuous Quality Improvement (CQI) activities. This information is shared back with recipients individually during annual technical review calls, as well as in aggregate at annual partnership meetings. Additionally, increased capacity will increase the likelihood of sustainability beyond the funding cycle.

(2) Recipient-level Group Interviews will take place at the end of Program Years 3, 4, and 5. The purpose of these interviews is to evaluate progress and challenges in implementing the Core SIPP program within the individual recipient-level context to inform tailored supports from CDC and partners. The tailored support is an effort to facilitate solutions to programmatic barriers, adjust recipient strategies as needed, and ensure the quality of data reported annually to CDC.

(3) Economic Indicators are collected to better understand the cost of IVP implementation by strategy as well as how recipients have leveraged funds and resources to increased sustainability for injury and violence prevention work.

(4) Injury Indicator Spreadsheets and Special Emphasis Reports are collected annually to track state level injury and violence morbidity and mortality data. This allows CDC to measure trends over time within a state, across states, and against the national average to identify changes during the Core SIPP funding period. Completion of the spreadsheets and reports ensures recipient surveillance capacity and reporting is in alignment with best practices.

CDC requests OMB approval for an estimated 764 annual burden hours. There is no cost to respondents other than their time to participate.

Estimated Annualized Burden Hours
Type of respondents | Form name | Number of respondents | Number of responses per respondent | Average burden per response (in hours) | Total burden (in hours)
Core SIPP Program Awardees | Implementation Capacity Rubric | 26 | 1 | 2 | 52
| Economic Indicators | 23 | 1 | 1 | 23
| Recipient-level Group Interviews | 26 | 1 | 1.5 | 39
| Injury Indicators Spreadsheet | 26 | 1 | 5 | 130
| Emergency Department Injury Indicators Spreadsheet | 26 | 1 | 5 | 130
| Hospital Discharge Injury Indicators Spreadsheet | 26 | 1 | 5 | 130
| Special Emphasis Reports | 26 | 1 | 10 | 260
Total |  |  |  |  | 764

Jeffrey M. Zirger,
Lead, Information Collection Review Office, Office of Public Health Ethics and Regulations, Office of Science, Centers for Disease Control and Prevention.

[FR Doc. 2024-21570 Filed 9-19-24; 8:45 am]

BILLING CODE 4163-18-P